DEPARTMENT OF COMMERCE

National Oceanic and Atmospheric Administration

Evaluation of Coastal Zone Management Programs and National Estuarine Research Reserves

AGENCY: Office of Ocean and Coastal Resource Management, National Ocean Service, National Oceanic and Atmospheric Administration (NOAA), DOC.

ACTION: Notice of intent to evaluate.

SUMMARY: The NOAA Office of Ocean and Coastal Resource Management (OCRM) announces its intent to evaluate the performance of the Hawaii Coastal Management Program, the Great Bay National Estuarine Research Reserve, New Hampshire, the Jobos Bay National Estuarine Research Reserve, Puerto Rico, and the Ashepoo-Combahee-Edisto (ACE) Basin National Estuarine Research Reserve, South Carolina.

The Coastal Zone Management Program evaluation will be conducted pursuant to section 312 of the Coastal Zone Management Act of 1972 (CZMA), as amended and regulations at 15 CFR part 923, subpart L. The National Estuarine Research Reserve evaluations will be conducted pursuant to sections 312 and 315 of the Coastal Zone Management Act of 1972 (CZMA), as amended and regulations at 15 CFR part 921, subpart E and part 923, subpart L.

The CZMA requires continuing review of the performance of states with respect to coastal program and research reserve program implementation. Evaluation of Coastal Zone Management Programs and National Estuarine Research Reserves requires findings concerning the extent to which a state has met the national objectives, adhered to its Coastal Management Program document or Reserve final management plan approved by the Secretary of Commerce, and adhered to the terms of financial assistance awards funded under the CZMA.

The evaluations will include a site visit, consideration of public comments, and consultations with interested Federal, state, and local agencies and members of the public. Public meetings will be held as part of the site visits.

Notice is hereby given of the dates of the site visits for the listed evaluations, and the dates, local times, and locations of the public meetings during the site visits.

The Hawaii Coastal Management Program evaluation site visit will be held November 5-9, 2001. One public meeting will be held during the week. The public meeting will be on Monday, November 5, 2001, from 7 to 9 p.m., at the Paki Hale, 3840 Paki Avenue, Honolulu, Hawaii 96815.

The Great Bay National Estuarine Research Reserve evaluation site visit will be from November 6-9, 2001. One public meeting will be held during the week. The public meeting will be on Wednesday, November 7, 2001, at 7 p.m., at the Sandy Point Discovery Center, Great Bay National Esturaine Research Reserve, 89 Depot Road, Stratham, New Hampshire 03885.

The Jobos Bay National Estuarine Research Reserve site visit will be from December 10-14, 2001. One public meeting will be held during the week. The public meeting will be on Tuesday, December 11, 2001, from 4 p.m. to 6 p.m., at the Jobos Bay National Estuarine Research Reserve Visitors' Center, Road 705, Kilometer 2.3, Main Street, Aguirre, Puerto Rico 00704.

The Ashepoo-Combahee-Edisto (ACE) Basin National Estuarine Research Reserve site visit will be from December 10-14, 2001. One public meeting will be held during the week. The public meeting will be held on Wednesday, December 12, 2001, at 7 p.m., at the Edisto Beach State Park Office, Edisto, South Carolina 29464.

Copies of states' most recent performance reports, as well as OCRM's notifications and supplemental request letters to the states, are available upon request from OCRM. Written comments from interested parties regarding these Programs are encouraged and will be accepted until 15 days after the public meeting. Please direct written comments to Douglas Brown, Acting Deputy Director, Office of Ocean and Coastal Resource Management, NOS/NOAA, 1305 East-West Highway, 10th floor, Silver Spring, Maryland 20910. When the evaluations are completed, OCRM will place a notice in the Federal Register announcing the availability of the Final Evaluation Findings.

FOR FURTHER INFORMATION CONTACT: Douglas Brown, Acting Deputy Director, Office of Ocean and Coastal Resource Management, NOS/NOAA, 1305 East-West Highway, Silver Spring, Maryland 20910, (301) 713-3155, Extension 215.

Dated: September 17, 2001.
Jamison S. Hawkins,
Deputy Assistant Administrator for Ocean Services and Coastal Zone Management.

[FR Doc. 01-23645 Filed 9-19-01; 8:45 am]

BILLING CODE 3510-08-M